DEPARTMENT OF HEALTH AND HUMAN SERVICES

Food and Drug Administration

[Docket No. FDA-2023-N-0853]

Yogurt Products Deviating From Standard of Identity; Amendment of Temporary Marketing Permit

AGENCY: Food and Drug Administration, HHS.

ACTION: Notice.

SUMMARY: The Food and Drug Administration (FDA or we) are amending Chobani, LLC's temporary permit to market test lower-fat yogurt products. The temporary permit is amended to allow the use of the test product as an ingredient in other nonstandardized food applications including drinkable beverages, dips, and sauces. This amendment will allow the applicant to continue to test market the test product, as ingredients, in whole or in part, in other nonstandardized foods and collect data on consumer acceptance of the test product.

FOR FURTHER INFORMATION CONTACT: Marjan Morravej, Center for Food Safety and Applied Nutrition (HFS-820), Food and Drug Administration, 5001 Campus Dr., College Park, MD 20740, 240-402-2371.

SUPPLEMENTARY INFORMATION: In the Federal Register of March 28, 2023 (88 FR 18322), we issued a notice announcing that we issued a temporary permit to Chobani, LLC, 200 Lafayette St., New York, NY 10012, to market test lower-fat yogurt products deviating from the general definition and standard of identity for yogurt with modified milkfat and fat-containing flavoring ingredients, and yogurt deviating from the yogurt standard of identity by using ultrafiltered nonfat milk as a basic dairy ingredient. The permit allowed for the test product to be manufactured at 3450 Kimberly Rd. East, Twin Falls, ID 83301 and 669 County Rd. 25, New Berlin, NY 13411.

We issued the permit to facilitate market testing of products that deviate from the requirements for the basic dairy ingredient provision of the yogurt standard of identity under 21 CFR 131.200(b).

Under our regulations at 21 CFR 130.17(f), we are amending the temporary permit issued to Chobani, LLC, to allow the test product to be used as ingredients, in whole or in part, in other nonstandardized foods. All other conditions and terms of this permit remain the same.

Dated: September 20, 2023.
Lauren K. Roth,
Associate Commissioner for Policy.

[FR Doc. 2023-20736 Filed 9-22-23; 8:45 am]

BILLING CODE 4164-01-P